DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of August and September 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,514; Elliott Power Systems, Inc., a subsidiary of Elliot Company, Lexington, TN

TA-W-55,487; Custom Sewing Company, Inc., Lawrenceburg, TN

TA-W-55,412; Gordon Aluminum Industries, Inc., Schofield Div., Schofield, WI

TA-W-55,390; ICG/Holliston, Church Hill, TN

TA-W-55,506; Groupe Lacasse LLC, a subsidiary of Haworth, Inc., Henderson Plant, including leased workers of Manpower Temporary Services, Henderson, TX

TA-W-55,537; Great Lakes Casting Corp., a subsidiary of Brittany Corp., Ludington, MI

TA-W-55,450; Jeld-Wen Millwork Manufacturing, Door Components Div., a subsidiary of Jeldwen, Inc., including on-site leased workers from Northwest Staffing, Everett, WA

TA-W-55,428; Alandale Industries, Troy, North Carolina

TA-W-55,147K &L; BASF Corp., TDI, Geismar, LA and Carboxy, Geismar, LA

The workers firm does not produce an article as required for certification under Section 222 of the Trade Act of 1974.

TA-W-55,439; Sun Microsystems, Inc., Scalable Systems Products (SSG), Design Tools, Performance and Quality Assurance Group (DTPQAG), (formerly known as Sun Microsystems, Inc., Enterprise Systems Product, Quality Assurance), San Diego, CA

TA-W-55,470; Thomas & Betts, Formerly L.E. Mason, Dedham, MA

TA-W-55,531; Electronic Data Systems, Hargrove Road Facility, Raleigh, NC

TA-W-55,530; AT&T Corp., Information Services, Augusta, GA

TA-W-55,527; Thomson/Biosis, a subsidiary of Thomson Scientific, Inc., Philadelphia, PA

TA-W-55,568; Arch Wireless, Charlotte, NC

TA-W-54,541; Glencore Ltd, Stamford, CT

TA-W-55,453; Prudential Financial, Inc., Individual Life-Customer Service Div., Dresher, PA

TA-W-55,413; International Bearings, LLC, Clinton, TN

TA-W-55,436; Element K Online LLC, a division of Element K LLC, Rochester, NY

TA-W-55,386; MCI, Inc., Telemarketing Center, Albuquerque, NM

TA-W-55,492; Marte-Hanks Market Intelligence, a division of Harte-Hanks Direct Marketing, Sterling Heights, MI

TA-W-55,494; The Raylon Corp., New York, NY

The investigation revealed that criterion (a)(2)(A)(I.A) and (a)(2)(B)(II.A) (no employment decline) has not been met.

TA-W-55,449; Ancor Information Management, Woodslee Partners, LLC, Troy, MI

TA-W-55,361; The Boeing Company, Long Beach Division, Long Beach, CA.

TA-W-55,503; Gear Research, Grand Rapids, MI.

TA-W-55,318; Allegheny Ludlum, Research/Technical Center, Natrona Heights, PA.

TA-W-55,147F; BASF Corp., Acetylene, Geismar, LA.

The investigation revealed that criterion (a)(2)(A)(I.B) (Sales or production, or both, did not decline) and (a) (2)(B)(II.B) (has shifted production to a county not under the free trade agreement with U.S.) have not been met.

TA-W-55,443; Vitec CC, Inc., d/b/a Clear-Com, Inc., a subsidiary of The Vitec Group, PLC, Emeryville, CA.

TA-W-55,416; Cerro Flow Products, Inc., Sauget, IL.

TA-W-55,147G; BASF Corp., MDI, Geismar, LA, H; Aniline, Geismar, LA, I; Polyol/CCU, Geismar, LA, J; Amines, Geismar, LA.

The investigation revealed that criteria (1) has not been met. A significant number or proportion of the workers in the workers' firm or an appropriate subdivision of the firm have become totally or partially separated, or are threatened to become totally or partially separated.

TA-W-55,415; Brook Industries, Inc., Fond du Lac, WI.

The investigation revealed that criteria (a)(2)(A) (I.B) The sales or production, or both, of such firm or subdivision have decreased absolutely and (I.C) (increased imports) have not been met.

TA-W-55,521; Micro Craft, Inc., A Niles Company, Novi, MI.

Affirmative Determinations for Worker Adjustment Assistance

The following certifications have been issued; the date following the company name and location of each determination references the impact date for all workers of such determination.

The following certifications have been issued. The requirements of (a)(2)(A) (increased imports) of Section 222 have been met.

TA-W-55,344; R&W Fashion, Inc., San Francisco, CA: July 22, 2003.

TA-W-55,438; Culp, Inc., Rossville/Chromatex Div., W. Hazleton, PA: August 12, 2003.

TA-W-55,481; Durite Manufacturing, Inc., Green Bay, WI: August 17, 2003.

TA-W-55,545; Hooker Furniture Corp., Maiden, NC: August 26, 2003.

TA-W-55,368; Bomax, Inc., Watertown, NY: July 28, 2003.

TA-W-55,491; Tubbs Snowshoes, a subsidiary of K2 Snowshoes LLC, Stowe, VT: August 10, 2003.

TA-W-55,469; Stork Prints America, Inc., Charlotte, NC: August 13, 2003.

TA-W-55,446; Shakespeare, division of K2, Inc., Newberry, SC: August 10, 2003.

TA-W-55,405; Specialty Shearing and Dyeing, Inc., Greenville, SC: August 2, 2003.

TA-W-55,401; Mount Vernon Mills, Inc., Cleveland Div., Cleveland, GA: August 5, 2003.

TA-W-55,367; Lexcraft, Inc., Fall River, MA: July 27, 2003.

TA-W-55,367; Lexcraft, Inc., Fall River, MA: July 27, 2003.

TA-W-55,345; Fenton Art Glass Co., Inc., Williamstown, WV: July 29, 2003.

TA-W-55,457; World Kitchen, Inc., Massillon, OH: August 12, 2003.

TA-W-55,425; Lesportsac, Inc., Hot Springs, NC: August 10, 2003.

TA-W-55,410; J. Royale Furniture, Inc., Conover, NC: August 4, 2003.

TA-W-55,396; Baker Furniture, Holland, MI: July 27, 2003.

TA-W-55,389; Gerber Coburn, including leased workers of Quality Staffing, Robert Half Technology and Kelly Services, Muskogee, OK: August 4, 2003.

TA-W-55,328; Pacific Prime Wood Products, Inc., Redmond, OR: July 26, 2003.

TA-W-55,488; SASI Corp., d/b/a Bridal Originals, Collinsville, IL: August 19, 2003.

TA-W-55,430; Associated Hygienic Products, Inc., a subsidiary of Disposable Soft Goods International, Oconto Falls, WI: July 19, 2003.

TA-W-55,497; Imlay City Plastics, Imlay City, MI: August 20, 2003.

TA-W-55,504; PPC Insulators, Knoxville, TN: August 20, 2003.

TA-W-55,369; California Concepts, Gardena, CA: July 27, 2003.

TA-W-55,373; Broyhill Furniture Industries, Inc., Rutherford Upholstery Plant #68, a wholly owned subsidiary of Furniture Brands International, Inc., Rutherfordton, NC, A; Lenoir, NC and B; Lenoir Chair #3, Lenoir, NC: July 15, 2003.

TA-W-55,395 & A; Dana Undies, Blakely, GA and Arlington, GA: August 5, 2003.

TA-W-55,395B; Dana Undies, Colquitt, GA—An investigation initiated in response to a worker petition was terminated due to all workers were separated from the subject firm more than one year before the date of the petition.

TA-W-55,147; BAST Corp., Surfactants, Geismar, LA, A; EO/EG, Geismar, LA, B; Analytical Services Dept, Geismar, LA, C; ISO Shipping, Geismar, LA, D; Diols, Geismar, LA, E;THF/PTHF/SMOIPA, Geismar, LA: June 18, 2003.

The following certifications have been issued. The requirements of (a) (2) (B) (shift in production) of Section 222 have been met.

TA-W-55,392; Upright International Manufacturing Limited, WRC Property Company, a subsidiary of WRC Holdings, Inc., Madera, CA: July 23, 2003.

TA-W-55,498; American Xtal Technology, Inc. (AXT, Inc.), Freemont, CA: September 17, 2004.

TA-W-55,462; International Textile Group, Burlington Apparel Fabric, including leased workers of Staffing Alliance, Raeford, NC: August 16, 2003.

TA-W-55,409; Elder Manufacturing Co., Inc., Dexter, MO: August 6, 2003.

TA-W-55,370; Permacel, North Brunswick, NJ: July 23, 2003.

TA-W-55,400 & A Rohr Lingerie, Inc., Pennsylvania, Old Forge, PA and Honesdale, PA: August 1, 2003.

TA-W-55,426; New World Pasta Company, Omaha, NE: August 10, 2003.

TA-W-55,352; BIC Corp., BIC Consumer Products Manufacturing Co., Inc., Milford, CT: August 2, 2003.

TA-W-55,437; AMOT Controls Corp., a div. of Roper Industries, Richmond, CA: August 1, 2003.

TA-W-55,429; Medline Industries, Medcrest Div., Monroeville, AL: August 10, 2003.

TA-W-55,393; Kaz, Inc., Home Environment Products, including on-site leased workers from Manpower, Newbern, TN: August 4, 2003.

TA-W-55,557; TSI of Florida/Cable SPEC LLC, Emerson Network Power, including on-site leased workers from Pro-Staff, Grand Prairie, TX: August 31, 2003.

TA-W-55,476; Toro Irrigation and Consumer Products, El Paso, TX: August 17, 2003.

TA-W-55,440; Elo Touchsystems, a subsidiary of Tyco Electronics, including on-site leased workers from Manpower, Benchmark and Barrett, Fremont, CA: July 22, 2003.

TA-W-55,459; Plastic Engineer Components, Inc., DBA Titan Plastics Group, Inc., El Paso, TX: August 12, 2003.

TA-W-55,517; U.S. Fuji Electric, Inc., Ashland, VA: August 24, 2003.

TA-W-55,357; Sanmina-SCI Corp., Printed Circuit Board Division, Wilmington, MA: June 30, 2003.

The following certifications have been issued. The requirement of upstream supplier to a trade certified primary firm has been met.

TA-W-55,365; National Textiles, LLC, Forest City, NC: July 27, 2003.

TA-W-55,515; Burkart Carolina, LLC, Henderson, NC August 25, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of Section 246(a)3)ii) have not been met for the reasons specified.

The Department as determined that criterion (2) of Section 246 has not been met. Workers at the firm possess skills that are easily transferable.

TA-W-55,430; Associated Hygienic Products, Inc., a subsidiary of Disposable Soft Goods International, Oconto Falls, WI.

TA-W-55,497; Imlay City Plastics, Imlay City, MI TA-W-55,504; PPC Insulators, Knoxville, TN: August 20, 2003.

TA-W-55,369; California Concepts, Gardena, CA.

TA-W-55,557; TSI of Florida/Cable SPEC LLC, Emerson Network Power, including on-site leased workers from Pro-Staff, Grand Prairie, TX.

TA-W-55,476; Toro Irrigation and Consumer Products, El Paso, TX.

TA-W-55,440; Elo Touchsystems, a subsidiary of Tyco Electronics, including on-site leased workers from Manpower, Benchmark and Barrett, Fremont, CA.

TA-W-55,459; Plastic Engineer Components, Inc., DBA Titan Plastics Group, Inc., El Paso, TX.

TA-W-55,517; U.S. Fuji Electric, Inc., Ashland, VA.

TA-W-55,357; Sanmina-SCI Corp., Printed Circuit Board Div., Wilmington, MA.

Since the workers are denied eligibility to apply for TAA, the workers cannot be certified eligible for ATAA.

TA-W-55,487; Custom Sewing Co., Inc., Lawrenceburg, TN.

TA-W-55,412; Gordon Aluminum Industries, Inc, Schofield Div., Schofield, WI.

TA-W-55,390; ICG/Holliston, Church Hill, TN.

TA-W-55,506; Groupe Lacasse LLC, a subsidiary of Haworth, Inc., Henderson Plant, including leased workers of Manpower Temporary Services, Henderson, TX.

TA-W-55,537; Great Lakes Casting Corp., a subsidiary of Brittany Corp., Ludington, MI.

TA-W-55,450; Jeld-Wen Millwork Manufacturing, Door Components Div., a subsidiary of Jeldwen, Inc., including on-site leased workers from Northwest Staffing, Everett, WA.

TA-W-55,428; Alandale Industries, Troy, NC.

TA-W-55,439; Sun Microsystems, Inc., Scalable Systems Products (SSG), Design Tools, Performance and Quality Assurance Group (DTPQAG), (Formerly known as Sun Microsystems, Inc., Enterprise Systems Products, Quality Assurance), San Diego, CA.

TA-W-55,470; Thomas & Betts, Formerly L.E. Mason, Bedham, MA.

TA-W-55,531; Electronic Data Systems, Hargrove Road Facility, Raleigh, NC.

TA-W-55,530; AT &T Corp., Information Services, Augusta, GA.

TA-W-55,527; Thomson/Biosis, a subsidiary of Thomson Scientific, Inc., Philadelphia, PA.

TA-W-55,568; Arch Wireless, Charlotte, NC.

TA-W-55,541; Glencore Ltd, Stamford, CT.

TA-W-55,453; Prudential Financial, Inc., Individual Life-Customer Service Div., Dresher, PA.

TA-W-55,413; International Bearings, LLC, Clinton, TN.

TA-W-55,503; Gear Research, Grand Rapids, MI.

TA-W-55,318; Allegheny Ludlum, Research/Technical Center, Natrona Heights, PA.

TA-W-55,443; Vitec CC, Inc., d/b/a Clear-Com, Inc., a subsidiary of The Vitec Group, PLC, Emeryville, CA.

TA-W-55,416; Cerro Flow Products, Inc., Sauget, IL.

TA-W-55,415; Brooke Industries, Inc., Fond du Lac, WI.

TA-W-55,521; Micro Craft, Inc., A Niles Company, Novi, MI.

TA-W-55,147F; BASF Corp., Acetylene, Geismar, LA, G; MDI, Geismar, LA, H; Aniline, Geismar, LA, I; Polyol/CCU, Geismar, LA, J; Amines, Geismar, LA, K; TDI, Geismar, LA, L; Carboxy, Geismar, LA.

Affirmative Determinations for Alternative Trade Ajdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,498; American Xtal Technology, Inc, (AXT, Inc), Freemont, CA: September 17, 2004.

TA-W-55,462; International Textile Group, Burlington Apparel Fabric, including leased workers of Staffing Alliance, Raeford, NC: August 16, 2003.

TA-W-55,409; Elder Manufacturing Company, Inc., Dexter, MO: August 6, 2003.

TA-W-55,370; Permacel, North Brunswick, NJ: July 23, 2003.

TA-W-55,400 & A; Rohr Lingerie, Inc. of Pennsylvania, Old Forge, PA and Honesdale, PA: August 1, 2003.

TA-W-55,426; New World Pasta Company, Omaha, NE: August 10, 2003.

TA-W-55,352; BIC Corp., BIC Consumer Products Manufacturing Co., Inc., Milford, CT: August 2, 2003.

TA-W-55,437; AMOT Controls Corp., division of Roper Industries, Richmond, CA: August 1, 2003.

TA-W-55,429; Medline Industries, Medcrest Division, Monroeville, AL: August 10, 2003.

TA-W-55,515; Burkart Carolina, LLC, Henderson, NC: August 25, 2003.

TA-W-55,481; Durite Manufacturing, Inc., Green Bay, WI: August 17, 2003.

TA-W-55,545; Hooker Furniture Corp., Maiden, NC: August 26, 2003.

TA-W-55,368; Bomax, Inc., Watertown, NY: July 28, 2003,

TA-W-55,491; Tubbs Snowshoes, a subsidiary of K2 Snowshoes LLC, Stowe, VT: August 10,2003.

TA-W-55,469; Stork Prints America, Inc., Charlotte, NC: August 13, 2003.

TA-W-55,446; Shakespeare, division of K2, Inc., Newberry, SC: August 10, 2003.

TA-W-55,405; Specialty Shearing and Dyeing, Inc., Greenville, SC: August 2, 2003.

TA-W-55,373; Broyhill Furniture Industries, Rutherford Upholstery Plant #68, a wholly owned subsidiary of Furniture Brands International, Inc., Rutherfordton, NC: July 15, 2003.

TA-W-55,401; Mount Vernon Mills, Inc., Cleveland Division, Cleveland, GA: August 5, 2003.

TA-W-55,367; Lexcraft, Inc., Fall River, MA: July 27, 2003.

TA-W-55,345; Fenton Art Glass Co., Inc., Williamstown, WV: July 29, 2003.

TA-W-55,457; World Kitchen, Inc., Massillon, OH: August 12, 2003.

TA-W-55,425; Lesportsac, Inc., Hot Springs, NC: August 10, 2003.

TA-W-55,410; J. Royale Furniture, Inc., Conover, NC: August 4, 2003.

TA-W-55,396; Baker Furniture, Holland, MI: July 27, 2003.

TA-W-55,389; Gerber Coburn, including leased workers of Quality Staffing, Robert Half Technology and Kelly Services, Muskogee, OK: August 4, 2003.

TA-W-55,328; Pacific Prime Wood Products, Inc., Redmond, OR: July 26, 2003.

TA-W-55,393; Kaz, Inc., Home Environment Products, including on-site leased workers from Manpower, Newbern, TN: August 4, 2003.

TA-W-55,488; SASI Corp., d/b/a Bridal Originals, Collinsville, IL: August 19, 2003.

TA-W-55,395 & A; Dana Undies, Blakely GA and Arlington, GA: August 5, 2003.

TA-W-55,147; BASF Corp., Surfactants, Geismer, LA, A; EO/EG, Geismar, LA, B; Analytical Service Dept., Geismar, LA, C; ISO Shipping, Geismar, LA, D; Diols, Geismar, LA, E;THF/PTHF/SMOIPA, Geismar, LA: June 18, 2003.

I hereby certify that the aforementioned determinations were issued during the months of September 2004. Copies of these determinations are available for inspection in Room C-5311, U.S. Department of Labor, 200 Constitution Avenue, NW., Washington, DC 20210 during normal business hours or will be mailed to persons who write to the above address.

Dated: September 28, 2004.
Timothy Sullivan,
Director, Division of Trade Adjustment Assistance.

[FR Doc. E4-2551 Filed 10-7-04; 8:45 am]

BILLING CODE 4510-30-P